FEDERAL MINE SAFETY AND HEALTH REVIEW COMMISSION

Sunshine Act Meeting Notice

July 13, 2011.

TIME AND DATE: 2 p.m., Thursday, July 14, 2011.

PLACE: The Richard V. Backley Hearing Room, 9th Floor, 601 New Jersey Avenue, NW., Washington, DC.

STATUS: Closed.

MATTERS TO BE CONSIDERED: The Commission considered the following in a closed session: Big Ridge, Inc., Docket Nos. LAKE 2011-116-R, et al., and Peabody Midwest Mining, LLC, Docket Nos. LAKE 2011-118-R, et al. (Issues include whether the Commission should grant an application for temporary relief from orders issued by the Secretary of Labor requiring that mine operators provide certain information and records to the Secretary.)

This meeting was closed to the public in accordance with the exemption in 5 U.S.C. 552b(c)(10) that is applicable to the consideration of a “particular case of formal agency adjudication.” Commission members determined that public announcement of the closed meeting at an earlier time was not practicable.

CONTACT PERSON FOR MORE INFO: Jean Ellen (202) 434-9950/(202) 708-9300 for TDD Relay/1-800-877-8339 for toll free.

Emogene Johnson,
Administrative Assistant.

[FR Doc. 2011-19337 Filed 7-27-11; 11:15 am]

BILLING CODE 6735-01-P